DEPARTMENT OF LABOR

Office of the Secretary

Submission for OMB Review: Comment Request

June 15, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Department of Labor, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of the Assistant Secretary for Administration and Management.

Type of Review: Extension of currently approved collection.

Title: Applicant Background Questionnaire.

OMB Number: 1225-0072.

Frequency: On occasion.

Affected Public: Individuals or households.

Number of Respondents: 3,000.

Estimated Annual Responses: 3,000.

Average Response Time: 3 minutes.

Total Annual Burden Hours: 150.

Total Annualized capital/startup costs: $0.

Total Annual Costs (operating/maintaining systems or purchasing services): $0.

Description: The U.S. Department of Labor (DOL) provides a wide range of services to a diverse American workforce. As part of its obligation to provide equal employment opportunities, DOL is charged with ensuring that qualified individuals in groups that have historically been underrepresented in various employments are included in applicant pools for Departmental positions. See 5 U.S.C. 7201(c); 29 U.S.C. 791; 5 CFR 720.204. To achieve this goal, DOL employment offices have targeted recruitment outreach to a variety of sources. Included in these sources are educational institutions which historically serve a high concentration of minorities, women, and persons with disabilities. Outreach efforts also extend to professional organizations, newspapers and magazines, as well as participation in career fairs and conferences, many of which reach high concentrations of historically underrepresented groups.

Without the information from this collection, DOL does not have the ability to evaluate the effectiveness of any of these targeted recruiting strategies because collection of racial and ethnic information only would occur at the point of hiring. DOL needs to collect data on the pools of applicants which result from the various targeted recruiting strategies listed above. With the information from this collection, DOL can adjust and redirect its targeted recruitment to ensure that the applicant pools contain candidates from historically underrepresented groups.

Ira L. Mills,
Departmental Clearance Officer.

[FR Doc. 05-12192 Filed 6-20-05; 8:45 am]

BILLING CODE 4510-23-P